DEPARTMENT OF DEFENSE

Office of the Secretary

[Transmittal No. 25-1H]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-1H.

Dated: January 29, 2026.
Stephanie J. Bost,
Alternate OSD Federal Register Liaison Officer, Department of Defense.

Transmittal No. 25-1H

REPORT OF ENHANCEMENT OR UPGRADE OF SENSITIVITY OF TECHNOLOGY OR CAPABILITY (SEC. 36(B)(5)(C), AECA)

(i) Prospective Purchaser: Government of the Netherlands

(ii) Sec. 36(b)(1), AECA Transmittal No.: 15-06

Date: March 23, 2015

Implementing Agency: Army

(iii) Description: On March 23, 2015, Congress was notified by congressional certification transmittal number 15-06, of the possible sale, under Section 36(b)(1) of the Arms Export Control Act, of seventeen (17) CH-47F Cargo Helicopters with customer unique post-modifications; forty-six (46) T55-GA-714A Aircraft Turbine Engines with Hydro-Mechanical Assembly, (thirty-four (34) installed and twelve (12) spares); forty-one (41) Embedded Global Positioning System/Inertial Navigation Systems (EGIs); fifty-four (54) AN/ARC-231 Ultra High Frequency/Very High Frequency Radios; twenty-one (21) AN/ARC-220 High Frequency Radios; twenty-one (21) AN/APX-123A Identification Friend or Foe Transponders; and forty-one (41) AN/ARC-201D Very High Frequency Radios. Also included were spare and repair parts, support equipment, tools and test equipment, aircraft ferry and refueling support, personnel training and training equipment, publications and technical documentation, United States (U.S.) government and contractor technical, and logistics support services, and other related elements of logistics and program support. The estimated total cost was $1.05 billion. Major Defense Equipment (MDE) constituted $900 million of this total.

On January 24, 2017, Congress was notified by congressional certification transmittal number 0Z-16 of the inclusion of sixteen (16) AN/AAR-57A(V)8 Common Missile Warning System equipment as MDE. The MDE value of this addition is estimated at $17.2M. In addition, this transmittal updated the sale to include Blue Force Tracker—Aviation (BFT-A), KIV-77 a Common Crypto Applique for Identification Friend or Foe (IFF) and the AN/PYQ-10 Simple Key Loaders (SKL). The total estimated case value remained $1.05 billion, however the estimated cost of MDE increased to $917.2 million.

On July 10, 2017, Congress was notified by congressional certification transmittal number 0E-17 of the inclusion of sixteen (16) AN/APR-39A(V)l Radar Signal Detecting Sets. The addition of this item did not result in a change to the estimated cost of MDE of $917.2 million. The total estimated case value remained $1.05 billion.

On August 8, 2018, Congress was notified by congressional certification transmittal number 18-0E of the inclusion of seven (7) AN/AAR-57A(V)8 Common Missile Warning Systems (CMWS), eight (8) AN/ALQ-212 Advance Threat Infrared Countermeasures (ATIRCM), seven (7) APR-39C(V)1 Radar Signal Detecting Sets, and fourteen (14) CN-1689-(H-764GU) Embedded Global Positioning System/Inertial Navigation (EGI) Systems. All four of these systems are MDE. Also included in this possible sale were associated equipment, support, and services. The addition of these systems resulted in an increase in MDE cost of $425 million. The notified MDE total increased to $1.342 billion with the total case value increasing to $1.475 billion.

On July 28, 2022, Congress was notified by congressional certification transmittal number 0M-22 of the inclusion of fifty-two (52) AN/ARC-231A (RT 1987) radios. The estimated value of the additional MDE items is $15 million, but the addition did not result in a change to the notified MDE total of $1.342 billion. The total case value remained $1.475 billion.

This transmittal notifies the inclusion of the following MDE items: ten (10) OT-228/U, Common Infrared Countermeasure (CIRCM) systems. The following non-MDE items will be included: U.S. Government technical assistance; incidental travel; transportation; new equipment training; technical data; reports; compatibility testing; firing tables; ancillary items; and other related elements of logistics and program support. The estimated total cost of the new items is $85 million. The estimated total cost of the new MDE items is $65 million, resulting in a revised estimated MDE cost of $1.407 billion. The revised estimated total case value is $1.560 billion.

(iv) Significance: This notification is being provided as the MDE items were not enumerated in the original notification. The inclusion of this MDE represents an increase in capability over what was previously notified.

(v) Justification: This proposed sale will support the foreign policy and national security objectives of the U.S. by improving the security of a NATO Ally which is an important force for political stability and economic progress in Europe.

(vi) Sensitivity of Technology:

Common Infrared Countermeasure (CIRCM) is the next-generation lightweight, laser-based, infrared countermeasure system for rotary-wing, tilt-rotor, and small fixed-wing aircraft across the DoD. CIRCM provides near spherical coverage of the host platform to defeat Infrared (IR)-seeking threat missiles. CIRCM receives an angular bearing hand-off from the Missile Warning System (CMWS or LIMWS), employs a pointing and tracking system that acquires and tracks the incoming missile. CIRCM jams the missile by using modulated laser energy, thus degrading the tracking capability of the missile and causing it to miss the aircraft. The highest level of information that may be transferred in support of this proposed sale is classified SECRET.

If a technologically advanced adversary were to obtain knowledge of the specific hardware and software elements, the information could be used to develop countermeasures which might reduce weapon system effectiveness or be used in the development of a system with similar or advanced capabilities.

A determination has been made that the Netherlands can provide substantially the same degree of protection of this technology as the U.S. Government. This proposed sale is necessary in furtherance of U.S. foreign policy and national security objectives outlined in the Policy Justification.

All defense articles, technical data, and services listed in this transmittal are authorized for release and export to the Government of The Netherlands.

(vii) Date Report Delivered to Congress: October 1, 2025

[FR Doc. 2026-02060 Filed 1-30-26; 8:45 am]

BILLING CODE 6001-FR-P